OFFICE OF THE UNITED STATES TRADE REPRESENTATIVE

Trade Policy Staff Committee; Public Comments on Potential Action Under Section 203 of the Trade Act of 1974 With Regard to Imports of Certain Steel

AGENCY: Office of the United States Trade Representative.

ACTION: Notice of request for comments on what action the President should take under section 203 of the Trade Act of 1974, as amended, (19 U.S.C. 2253) to facilitate efforts by the domestic industries producing certain steel products to make a positive adjustment to import competition and provide greater economic and social benefits than costs.

SUMMARY: This publication gives notice that the Trade Policy Staff Committee (TPSC) is requesting comments from interested persons related to the recommendation that the interagency group established under section 242(a) of the Trade Expansion Act of 1962 (19 U.S.C. 1872(a)) (interagency group) makes as to what action the President should take under section 203(a) of the Trade Act of 1974, as amended, (19 U.S.C. 2253(a)) (Trade Act) to facilitate efforts by the domestic industries producing certain steel products to make a positive adjustment to import competition and provide greater economic and social benefits than costs.

The steel products covered by this notice are: (1) Carbon and alloy steel slabs, plate (including cut-to-length plate and clad plate), hot-rolled sheet and strip (including plate in coils), cold-rolled sheet and strip (other than grain-oriented electrical steel), and corrosion-resistant and other coated sheet and strip; (2) carbon and alloy hot-rolled bar and light shapes; (3) carbon and alloy cold-finished bar; (4) rebar; (5) carbon and alloy welded tubular products (other than oil country tubular goods); (6) carbon and alloy flanges, fittings, and tool joints; (7) stainless steel bar and light shapes; (8) stainless steel rod; (9) carbon and alloy tin mill products; (10) tool steel, all forms; (11) stainless steel wire; and (12) stainless steel flanges and fittings. On October 22, the U.S. International Trade Commission (ITC) found that increased imports of the products listed in (1) through (8) are a substantial cause of serious injury or the threat of serious injury to the domestic industries producing those products. The Commissioners voting were equally divided with respect to the determination whether increased imports of products listed in (9) through (12) are a substantial cause of serious injury or the threat of serious injury to the domestic industry producing those products.

The TPSC is requesting comments on actions that the commenting person or entity intends to take to facilitate the positive adjustment to import competition; requests for exclusions of products from any increased duty, tariff-rate quota, or quantitative restriction that the President may impose under section 203(a) of the Trade Act; and comments on what action, if any, the President should take under section 203(a) of the Trade Act in response to each affirmative finding of serious injury or threat thereof to a domestic industry announced by the ITC.

DATES: Written proposals on adjustment actions should be submitted no later than November 5, 2001; responses to proposals should be submitted no later than November 19, 2001. Requests for the exclusion of specific products from any action under section 203(a) should be submitted by noon on November 13, 2001; responses to requests should be submitted no later than November 27, 2001. Written comments on what action, if any, the President should take under section 203(a) of the Trade Act should be submitted no later than noon on December 28, 2001; responses to written comments should be submitted no later than noon on January 8, 2002.

FOR FURTHER INFORMATION CONTACT: For procedural questions concerning public comments, contact Gloria Blue, Executive Secretary, TPSC, Office of the USTR, 600 17th Street, NW., Washington, DC 20508 (202) 395-3475. All other questions should be addressed to Andrew Stephens, Director for Steel Trade Policy, Office of the USTR (202) 395-6160.

SUPPLEMENTARY INFORMATION: On October 22, 2001, the ITC issued affirmative determinations under section 202(b) of the Trade Act (22 U.S.C. 2252(b)) that (1) carbon and alloy steel slabs, plate (including cut-to-length plate and clad plate), hot-rolled sheet and strip (including plate in coils), cold-rolled sheet and strip (other than grain-oriented electrical steel), and corrosion-resistant and other coated sheet and strip; (2) carbon and alloy hot-rolled bar and light shapes; (3) carbon and alloy cold-finished bar; (4) rebar; (5) carbon and alloy welded tubular products (other than oil country tubular goods); (6) carbon and alloy flanges, fittings, and tool joints; (7) stainless steel bar and light shapes; and (8) stainless steel rod are being imported in such increased quantities as to be a substantial cause of serious injury, or the threat thereof, to the domestic industries producing those products. The Commissioners voting were equally divided with respect to the determination under section 202(b) of the Trade Act as to whether increased imports of (9) carbon and alloy tin mill products; (10) tool steel, all forms; (11) stainless steel wire; and (12) stainless steel flanges and fittings are being imported in such increased quantities as to be a substantial cause of serious injury, or the threat thereof, to the domestic industries producing those products. The ITC is in the process of deciding what action under section 202(e) of the Trade Act to recommend that would address the serious injury, or threat thereof, to the domestic industries and most effectively facilitate the efforts of the domestic industries to make positive adjustments to import competition. The ITC must issue a report on its determinations and recommendations to the President no later than December 19, 2001.

Pursuant to section 203(a)(1)(C) of the Trade Act, the interagency group will subsequently make a recommendation to the President as to what action, if any, to take under section 203(a)(1)(A) of the Trade Act. In making its recommendation, the interagency group will take into account the factors listed in Section 203(a)(2), including the objectives and actions specified in any adjustment plans submitted under section 202(a)(4) of the Trade Act and any individual commitments under section 202(a)(6) of the Trade Act. The interagency group will also consider and make a recommendation with regard to any request for exclusion of a product from any import relief provided under section 203.

In light of the number of articles subject to the ITC's determination, the number of persons who may wish to comment on the action that the President may take under section 203, and the complexity of the issues involved, the TPSC has decided to adopt special guidelines for the submission of comments and the conduct of meetings with interested persons.

Written Proposals on Adjustment Actions

The TPSC invites written proposals from any

• Firm in the domestic industries;

• Certified or recognized union or group of workers in the domestic industries;

• State or local community;

• Trade association representing the domestic industries; or

• Any other interested person or group of interested persons

regarding the actions that the commenting person or entity intends to take to facilitate the positive adjustment to import competition.

Written proposals on adjustment actions should be as specific as possible and should:

(a) Assess current problems affecting the industries' ability to compete with imports;

(b) Indicate the types of actions that workers and firms will undertake during a period of import relief to improve the ability of the industries to compete after relief terminates or to facilitate adjustment to increased import competition;

(c) Recommend types of actions that may be taken by Federal agencies or departments to assist the domestic industries' efforts either to enhance their competitiveness or to adjust to import competition; and

(d) Explain how import relief will assist in achieving these objectives.

Written proposals on adjustment actions should be submitted no later than noon on November 5, 2001.

The TPSC also invites any person or entity listed above to submit a written comment on any written proposal on positive adjustment actions. Written comments should be as specific as possible, including recommendations, and should be submitted no later than noon on November 19, 2001.

Requests To Exclude Products From Import Relief Under Section 203

The TPSC will consider requests by a producer, importer, or purchaser of certain steel products for the exclusion of a particular product, defined in terms of its unique physical characteristics, from any increased duty, tariff-rate quota, or quantitative restriction that the President may impose under section 203(a) of the Trade Act. Any such request must be made in writing, and contain the following information:

(a) The designation of the product under a recognized standard or certification (e.g., ASTM, DIN), or the commercial name for the product and the HTS number under which the product enters the United States;

(b) A description of the product based on physical characteristics (e.g., chemical composition, metallurgical properties, dimensions, surface quality) so as to distinguish the product from products for which exclusion is not sought;

(c) The basis for requesting an exclusion;

(d) The names and locations of any producers, in the United States and foreign countries, of the product;

(e) Total U.S. consumption of the product, if any, by quantity and value for each year from 1996 to 2000, and projected annual consumption for each year from 2001 to 2005, with an explanation of the basis for the projection;

(f) Total U.S. production of the product for each year from 1996 to 2000, if any; and

(g) The identity of any U.S.-produced substitute for the product, total U.S. production of the substitute for each year from 1996 to 2000, and the names of any U.S. producers of the substitute.

Requests should be as specific as possible. If precise data are not available, the request should include estimates, and describe in detail the basis for making the estimate. All requests should be submitted by noon on November 13, 2001.

The TPSC invites responses to any request for exclusion submitted in accordance with this notice. Responses should provide, with as much specificity as possible, any data, views or recommendations relevant to the TPSC's consideration of the request. All responses should be submitted by noon on November 27, 2001.

The TPSC may disregard any request for exclusion or response to a request for exclusion submitted after the specified time and date.

TPSC Evaluation of Options for Action Under Section 203

The TPSC will begin its evaluation of options for action by the President under section 203 after the ITC issues its report on serious injury and recommended remedy. As part of that process, the TPSC invites written comments from interested persons on what action, if any, the President should take under section 203(a) of the Trade Act in response to each affirmative determination of injury or threat thereof to a domestic industry made by the ITC. Written comments should be as specific as possible, including data, views and recommendations, and may address the following options authorized under section 203(a)(3):

(a) Whether to take an action in the form of an increase in duties, a tariff-rate quota, a quantitative restriction, or some combination of such actions on an imported article covered by an affirmative determination by the ITC and, if so, the rate of any duty, rate and affected quantity of any tariff-rate quota, or level of any quantitative restriction;

(b) The duration of any action;

(c) Whether to provide trade adjustment assistance under chapter 2 of the Trade Act of 1974 (19 U.S.C. 2271 et seq.), or any other form of adjustment assistance, to the domestic industries and, if so, the nature of the assistance;

(d) Whether to proclaim procedures to allocate among importers by the auction of import licenses quantities of any product that are permitted to be imported into the United States;

(e) Whether to negotiate agreements with foreign countries limiting the export from those countries and import into the United States of an article subject to the ITC's affirmative determination;

(f) Whether to initiate international negotiations to address the underlying cause of the increase in imports of the article or otherwise to alleviate the injury or threat thereof;

(g) Whether to submit to Congress legislative proposals to facilitate the efforts of the domestic industries to make positive adjustments to import competition; and

(h) Whether the President should take any other action under the authority of law.

Written comments should be submitted no later than noon on December 28, 2001.

The TPSC invites responses to any written comments submitted in accordance with this notice. Responses should provide, with as much specificity as possible, any data, views or recommendations relevant to the TPSC's consideration of the comments. All responses should be submitted no later than noon on January 8, 2002.

Written Comments

Persons submitting written comments, requests, or other information in accordance with this notice should, no later than the date and time listed above, either send twenty (20) copies by U.S. mail, first class, postage prepaid, to Gloria Blue at the address listed above or transmit a single copy electronically to FR0001@ustr.gov. A document sent by U.S. mail will be considered timely only if it is postmarked on or before the relevant date and time. A document transmitted electronically will be considered timely if received on or before the relevant date and time. The TPSC will not accept submissions delivered by messenger or commercial overnight delivery service. Any submission more than five (5) pages long should be accompanied by a table of contents and a concise executive summary. The TPSC also suggests that requests for exclusion and responses to requests for exclusion be no more than ten (10) pages in length, and that all other submissions be no more than twenty-five (25) pages in length.

Written comments, requests, or other information submitted by U.S. mail should be accompanied by a computer disk containing an electronic copy of the public or non-confidential version of the submission in a commercial word processing or spreadsheet format. The disk should have a label identifying the software used, the submitter, and the title of the submission. In addition, submitters should take steps to ensure that they delete all business confidential information from the electronic copy of any public or non-confidential document.

Written comments, requests, or other information submitted in connection with this request, except for information granted “business confidential” status pursuant to 15 CFR 2003.6, will be available for public inspection in the USTR Reading Room, Room 3, 1724 F Street, NW., Washington, DC 20508. An appointment to review the file may be made by calling Brenda Webb at (202) 395-6186. The Reading Room is open to the public from 10:00 a.m. to 12 noon, and from 1 p.m. to 4 p.m. Monday through Friday. These submissions will also be available on the USTR web site, www.ustr.gov.

Business confidential information will be subject to the requirements of 15 CFR 2003.6. Any business confidential material must be clearly marked as such on the cover letter or page and each succeeding page, and must be accompanied by a non-confidential summary thereof, in the form specified above. A justification as to why the information contained in the submission should be treated confidentially must be included in the submission. The TPSC requests interested persons to summarize any deleted business confidential information by (1) providing a written characterization of any business confidential information in narrative form; and (2) aggregating, ranging, or indexing any numerical business confidential information.

If a document containing business confidential information is submitted by U.S. mail, twenty (20) copies of the business confidential submission and twenty (20) copies of a public version that does not contain business confidential information must be submitted. Any submissions containing business confidential information must be clearly marked “Business Confidential” at the top and bottom of the cover page (or letter) and each succeeding page of the submission. The version that does not contain business confidential information should also be clearly marked, at the top and bottom of each page, “public version” or “non-confidential.” If a document containing business confidential information is submitted by electronic transmission, one copy of the business confidential version and one copy of a public version must be submitted. The name of the business confidential version should begin with the characters “BC-”, and the name of the public version should begin with the characters “P-.” The electronic copy of each document should have a header and footer on each page indicating whether it is “Business Confidential” or “public version” or “non-confidential.”

Carmen Suro-Bredie,
Chair, Trade Policy Staff Committee.

[FR Doc. 01-27134 Filed 10-24-01; 3:03 pm]

BILLING CODE 3190-01-P